DEPARTMENT OF DEFENSE

Department of the Army

Performance Review Boards Membership

AGENCY: Department of the Army, DoD.

ACTION: Notice.

SUMMARY: Notice is given of the names of members of a Performance Review Board for the Department of the Army.

EFFECTIVE DATE: November 13, 2001.

FOR FURTHER INFORMATION CONTACT: David Stokes, U.S. Army Senior Executive Service Office, Assistant Secretary of the Army, Manpower & Reserve Affairs, 111 Army, Washington, DC 20310-0111, telephone (703) 697-3549.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the US NATO Field Element (Army) are:

1. Mr. Al Volkman, Director, OUSD/AT&L Intl Programs, Office of the Secretary of Defense.

2. Mr. Leo Michel, Director, NATO Policy, Office of the Secretary of Defense.

3. Mr. Steve Austin, OUSD ICAT&L PA, Office of the Secretary of Defense.

4. Mr. Jeffrey Starr, OSD/PI, Office of the Secretary of Defense.

5. Mr. Peter Verga, (alternate) Deputy Under Secretary of Defense for Policy Integration, Office of the Secretary of Defense.

John Hall,
Alternate Army Federal Register Liaison Officer.

[FR Doc. 01-28374 Filed 11-9-01; 8:45 am]

BILLING CODE 3710-08-M